DEPARTMENT OF EDUCATION

National Board for Education Sciences

AGENCY: Institute of Education Sciences, Department of Education.

ACTION: Notice of an open meeting.

SUMMARY: This notice sets forth the schedule and proposed agenda of an upcoming meeting of the National Board for Education Sciences. The notice also describes the functions of the Committee. Notice of this meeting is required by Section 10(a)(2) of the Federal Advisory Committee Act and is intended to notify the public of their opportunity to attend the open portion of the meeting.

DATES: April 7 and 8, 2010.

TIME: April 7, 1 p.m. to 5:30 p.m.; April 8, 8:30 a.m. to 12:30 p.m.

ADDRESSES: 80 F Street, NW., Room 100, Washington, DC 20208.

FOR FURTHER INFORMATION CONTACT: Norma Garza, Executive Director, National Board for Education Sciences, 555 New Jersey Ave., NW., Room 602 K, Washington, DC 20208; phone: (202) 219-2195; fax: (202) 219-1466; e-mail: Norma.Garza@ed.gov.

Individuals who use a telecommunications device for the deaf (TDD) may call the Federal Information Relay Service (FRS) at 1-800-877-8339.

SUPPLEMENTARY INFORMATION: The National Board for Education Sciences is authorized by Section 116 of the Education Sciences Reform Act of 2002 (ESRA). The Board advises the Director of the Institute of Education Sciences (IES) on the establishment of activities to be supported by the Institute, on the funding for applications for grants, contracts, and cooperative agreements for research after the completion of peer review, and reviews and evaluates the work of the Institute. At this time, the Board consists of six of fifteen appointed members due to the expirations of the terms of nine members. The Board shall meet and can carry out official business as provided by the ESRA which states that a majority of the voting members serving at the time of a meeting constitutes a quorum.

On April 7 from 1 p.m. to 1:15 p.m., the Board will approve the agenda and hear remarks from the chair and the executive director. From 1:15 p.m. to 2:15 p.m., IES director John Easton will discuss priorities for the Institute, followed by a Board discussion until 3 p.m. After a break ending at 3:15 p.m., the Board will conduct an overview of the agencies represented by ex-officio members. Presentations will follow from 4 p.m. to 5:30 p.m. from U.S. Department of Education officials. The meeting will recess at 5:30 p.m.

On April 8, the meeting will begin at 8:30 a.m. with a review of the prior day's activity and a review of the agenda. At 8:45 a.m. IES commissioners and staff will give an update on the IES Centers. This will conclude at 9:45 a.m. Following a break until 10 a.m. the Board will hear presentations on recently released IES studies. There will be an update on the What Works Clearinghouse from 11:30 a.m. until 12:15 p.m., followed by an open discussion and a consideration of next steps. The meeting will adjourn at 12:30 p.m.

A final agenda will be available from Norma Garza (see contact information above) on March 29. Individuals who will need accommodations for a disability in order to attend the meeting (e.g., interpreting services, assistance listening devices, or materials in alternative format) should notify Norma Garza no later than March 29. We will attempt to meet requests for accommodations after this date but cannot guarantee their availability. The meeting site is accessible to individuals with disabilities.

Records are kept of all Committee proceedings and are available for public inspection at 555 New Jersey Ave., NW., Room 602 K, Washington, DC 20208, from the hours of 9 a.m. to 5 p.m., Eastern Standard Time Monday through Friday.

Electronic Access to This Document: You may view this document, as well as all other documents of this Department published in the Federal Register, in text or Adobe Portable Document Format (PDF) on the Internet at the following site: http://www.ed.gov/news/fed-register/index.html.

To use PDF you must have Adobe Acrobat Reader, which is available free at this site. If you have questions about using PDF, call the U.S. Government Printing Office (GPO), toll free at 1-866-512-1830; or in the Washington, DC, area at (202) 512-0000.

Note: The official version of this document is the document published in the Federal Register. Free Internet access to the official edition of the Federal Register and the Code of Federal Regulations is available on GPO Access at: http://www.gpoaccess.gov/nara/index.html.

John Q. Easton,
Director, Institute of Education Sciences.

[FR Doc. 2010-6088 Filed 3-18-10; 8:45 am]

BILLING CODE 4000-01-P